DEPARTMENT OF HEALTH AND HUMAN SERVICES

Centers for Disease Control and Prevention

[60-Day-06-06AA]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The 2nd Injury Control and Risk Survey (ICARIS 2)—Phase 2—New—The National Center for Injury Prevention and Control (NCIPC), Centers for Disease Control and Prevention (CDC).

Background and Brief Description

This project will use data from a telephone survey to measure injury-related risk factors and guide injury prevention and control priorities, including those identified as priorities in “Healthy People 2010” objectives for the nation. Injuries are a major cause of premature death and disability with associated economic costs of over 150 billion dollars in lifetime costs for persons injured each year. “Healthy People 2010” objectives and the recent report from the Institute of Medicine, “Reducing the Burden of Injury”, call for reducing this toll. In addition to national efforts, NCIPC funds injury control prevention programs at the state and local levels. The use of outcome data (e.g., fatal injuries) for measuring program effectiveness is problematic because cause-specific events are relatively rare and data on critical risk factors (e.g., whether a helmet was worn in a bike crash, whether a smoke detector was present at a fatal fire, etc.) are often missing. Because these risk factors occur early in the causal chain of injury, injury control programs generally target them to prevent injuries. Accordingly, monitoring the level of injury risk factors in a population can help programs set priorities and evaluate interventions.

The first Injury Control and Risk Factor Survey (ICARIS), conducted in 1994, was a random digit dial telephone survey that collected injury risk factor and demographic data on 5,238 English- and Spanish-speaking adults (18 years of age or older) in the United States. Proxy data were collected on 3,541 children less than 15 years old. More than a dozen peer-reviewed scientific reports have been published from the ICARIS data on related subjects including dog bites, bicycle helmet use, residential smoke detector usage, fire escape practices, attitudes toward violence, suicidal ideation/behavior, and compliance with pediatric injury prevention counseling.

ICARIS-2 is a national telephone survey focusing on injuries. The survey process began in the summer of 2001 and was completed in early 2003. Analyses are currently being conducted on the data collected on nearly 10,000 respondents. The first phase of the survey was initiated as a means for monitoring the injury risk factor status of the nation at the start of the millennium.

The 2nd phase of ICARIS-2 is needed to expand knowledge in areas investigators could not fully explore previously. By using data collected in ICARIS as a baseline, the data collected in Phase-2 will be used to measure changes and gauge the impact of injury prevention policies. This current national telephone survey on injury risk is being implemented to fully monitor injury risk factors and selected year “Healthy People 2010” injury objectives, as well as evaluate the effectiveness of injury prevention programs. There are no costs to respondents except their time to participate in the survey.

Estimates of Annualized Burden Table
Respondents | Number of respondents | Number of responses/ respondent | Average burden/ response (in hours) | Total burden (in hours)
Adult male and female (18 years of age and older) | 4,000 | 1 | 15/60 | 1000

Dated: November 17, 2005.
Betsey Dunaway,
Acting Reports Clearance Officer, Centers for Disease Control and Prevention.

[FR Doc. E5-6506 Filed 11-23-05; 8:45 am]

BILLING CODE 4163-18-P